INTERNATIONAL TRADE COMMISSION

[Investigation No. 332-560]

Generalized System of Preferences: Possible Modifications, 2016 Review

AGENCY: United States International Trade Commission.

ACTION: Change in scope of investigation following withdrawal of several requests for competitive need waivers.

SUMMARY: Following receipt of a letter on behalf of the Acting United States Trade Representative (USTR) dated February 17, 2017, advising that several petitioners have withdrawn requests for waivers of the competitive need limitation under the Generalized System of Preferences (GSP) program and that USTR accordingly was withdrawing its request for advice regarding such petitions, the U.S. International Trade Commission (Commission) has amended the scope of its investigation and will not provide advice regarding the withdrawn petitions.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov.

FOR FURTHER INFORMATION CONTACT: Information specific to this investigation may be obtained from Renee Berry, Project Leader, Office of Industries (202-205-3498 or renee.berry@usitc.gov), Sabina Neumann, Deputy Project Leader, Office of Industries (202-205-3000 or sabina.neuman@usitc.gov), or Marin Weaver, Technical Advisor, Office of Industries (202-205-3461 or marin.weaver@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

SUPPLEMENTARY INFORMATION: Background: The February 17, 2017, letter from USTR advised the Commission that several petitioners have withdrawn requests for waivers of the competitive need limitation (CNL) under the GSP program, and that in view of the withdrawals, USTR was withdrawing its request for Commission advice as to whether any industry in the United States is likely to be adversely affected by the waiver of the CNLs, whether like or directly competitive products were being produced in the United States on January 1, 1995, and what the probable economic effect would be on total U.S. imports, as well as on consumers, of the subject CNL waivers. The letter asked that the Commission continue with its analysis of all other petitions cited in the January 5, 2017 letter from the USTR. As a result, the Commission is terminating the portion of its investigation that concerns the waivers that are the subject of the withdrawn petitions and will not provide advice regarding them. The withdrawn petitions concern the following articles, HTS subheadings, countries, and petitioners:

HTS subheading | Brief description | Country | Petitioner
0410.00.00 | Edible products of animal origin, nesi | Indonesia | Government of Indonesia.
0714.90.00 | Fresh or chilled dasheens, whether or not sliced or in the form of pellets | Ecuador | Government of Ecuador.
4011.20.10 | New pneumatic radial tires, of rubber, of a kind used on buses or trucks | Indonesia | Government of Indonesia.
6802.99.00 | Monumental or building stone & arts thereof, nesoi, further worked than simply cut/sawn, nesoi | Brazil | Government of Brazil and several stone exporters.
8525.80.30 | Television cameras, nesi | Thailand | Government of Thailand.
9001.50.00 | Spectacle lenses of materials other than glass, unmounted | Thailand | Government of Thailand and Thai Optical Group.

In response to the USTR's letter of January 5, 2017, the Commission published its notice of institution of this investigation and the scheduling of a public hearing in connection therewith in the Federal Register on January 23, 2017 (82 FR 7857). The public hearing in this investigation (concerning the remaining articles) was held on February 21, 2017.

As previously announced, the Commission expects to transmit its report in this investigation to the USTR by May 5, 2017.

By order of the Commission.
Issued: March 21, 2017.
Lisa R. Barton,
Secretary to the Commission.

[FR Doc. 2017-05935 Filed 3-24-17; 8:45 am]

BILLING CODE 7020-02-P